DEPARTMENT OF HOMELAND SECURITY

Coast Guard

33 CFR Part 165

[CGD13-06-020]

RIN 1625-AA87

Security Zone: Portland Rose Festival on Willamette River

AGENCY: Coast Guard, DHS.

ACTION: Notice of enforcement.

SUMMARY: The Captain of the Port Portland, Oregon will begin enforcing on June 7, 2006 the Portland Rose Festival Security Zone established by 33 CFR 165.1312 until June 12, 2006. This zone provides for the security of public vessels on a portion of the Willamette River during the fleet week of the 2006 Rose Festival.

DATES: This notice of enforcement for 33 CFR 165.1312 will be enforced from June 7, 2006 until June 12, 2006.

FOR FURTHER INFORMATION CONTACT: Petty Officer Christopher Lumpkin, c/o Captain of the Port Portland, OR, 6767 North Basin Avenue, Portland, OR 97217 at (503) 240-9301 to obtain information concerning enforcement of this rule.

SUPPLEMENTARY INFORMATION: On May 29, 2003, the Coast Guard published a final rule (68 FR 31979, which was later amended, 70 FR 33352, June 8, 2005) establishing a security zone, in 33 CFR 165.1312, for the security of public vessels on a portion of the Willamette River during the fleet week of the Rose Festival. This security zone provides for the regulation of vessel traffic in the vicinity of the moored vessels. Entry into this zone is prohibited unless authorized by the Captain of the Port or his designee. The Captain of the Port Portland will begin enforcing the Rose Festival Security Zone established by 33 CFR 165.1312 on June 7, 2006. The Captain of the Port may be assisted by other Federal, state, or local agencies in enforcing this security zone. This security zone will be enforced until June 12, 2006.

Dated: April 26, 2006.
Patrick G. Gerrity,
Captain, U.S. Coast Guard, Captain of the Port, Portland.

[FR Doc. 06-4266 Filed 5-4-06; 8:45 am]

BILLING CODE 4910-15-P